DEPARTMENT OF TRANSPORTATION

Federal Aviation Administration

14 CFR Part 39

[Docket No. FAA-2008-0446; Directorate Identifier 2008-CE-021-AD; Amendment 39-15568; AD 2008-13-05]

RIN 2120-AA64

Airworthiness Directives; Lindstrand Balloons Ltd. Models 42A, 56A, 60A, 69A, 77A, 90A, 105A, 120A, 150A, 180A, 210A, 240A, 260A, and 310A Balloons

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

Defective burner hoses have been identified which might develop a leak. A significant leak, if it was ignited, could hazard the balloon and occupants.

Since the issue of AD G-2003-0010 there have been occurrences of hose failure in batches not identified in the earlier bulletins. LHAB Service Bulletin (SB) No 11 supersedes the earlier SBs and revises the applicability as required.

We are issuing this AD to require actions to correct the unsafe condition on these products.

DATES: This AD becomes effective July 23, 2008.

As of April 1, 2008 (73 FR 13113, March 12, 2008), the Director of the Federal Register approved the incorporation by reference of Lindstrand Hot Air Balloons Ltd. Service Bulletin No. 11, Issue 1, dated September 24, 2007, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

FOR FURTHER INFORMATION CONTACT: Taylor Martin, Aerospace Engineer, 901 Locust, Room 301, Kansas City, Missouri 64106; telephone: (816) 329-4138; fax: (816) 329-4090.

SUPPLEMENTARY INFORMATION:

Discussion

We issued a notice of proposed rulemaking (NPRM) to amend 14 CFR part 39 to include an AD that would apply to the specified products. That NPRM was published in the Federal Register on April 18, 2008 (73 FR 21072), and proposed to supersede AD 2008-06-15, Amendment 39-15427 (73 FR 13113, March 12, 2008). That NPRM proposed to correct an unsafe condition for the specified products. The MCAI states that:

Defective burner hoses have been identified which might develop a leak. A significant leak, if it was ignited, could hazard the balloon and occupants.

Since the issue of AD G-2003-0010 there have been occurrences of hose failure in batches not identified in the earlier bulletins. LHAB Service Bulletin (SB) No 11 supersedes the earlier SBs and revises the applicability as required.

The MCAI requires you inspect the hose to identify whether the hose is from the affected batch of hoses and to inspect for defective hoses and end fittings, immediately replace any defective hose and end fittings, and eventually replace any of the hoses and end fittings from the affected batch that are not defective.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 422 products of U.S. registry. We also estimate that it will take about 1 work-hour per product to comply with basic requirements of this AD. The average labor rate is $80 per work-hour.

Based on these figures, we estimate the cost of this AD to the U.S. operators to be $33,760 or $80 per product.

In addition, we estimate that any necessary follow-on actions would take about 1 work-hour and require parts costing $200, for a cost of $280 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15427 (73 FR 13113, March 12, 2008) and adding the following new AD:

2008-13-05 Lindstrand Balloons Ltd.: Amendment 39-15568; Docket No. FAA-2008-0446; Directorate Identifier 2008-CE-021-AD.

Effective Date

(a) This airworthiness directive (AD) becomes effective July 23, 2008.

Affected ADs

(b) This AD supersedes AD 2008-06-15, Amendment 39-15427.

Applicability

(c) This AD applies to Models 42A, 56A, 60A, 69A, 77A, 90A, 105A, 120A, 150A, 180A, 210A, 240A, 260A, and 310A balloons that are:

(i) certificated in any category; and

(ii) equipped with burners with serial numbers BU502 through BU792, except BU507, BU511, BU512, BU614, BU643, BU655, BU656, BU719, BU723, BU746, BU749, BU752, BU754, BU762, BU779, BU781, BU785, BU787, and BU789.

Subject

(d) Air Transport Association of America (ATA) Code 28: Fuel.

Reason

(e) The mandatory continuing airworthiness information (MCAI) states:

Defective burner hoses have been identified which might develop a leak. A significant leak, if it was ignited, could hazard the balloon and occupants.

Since the issue of AD G-2003-0010 there have been occurrences of hose failure in batches not identified in the earlier bulletins. LHAB Service Bulletin (SB) No. 11 supersedes the earlier SBs and revises the applicability as required.

The MCAI requires you inspect the hose to identify whether the hose is from the affected batch of hoses and to inspect for defective hoses and end fittings, immediately replace any defective hose and end fittings, and eventually replace any of the hoses and end fittings from the affected batch that are not defective.

Actions and Compliance

(f) Do the following unless already done:

(1) Before further flight after April 1, 2008 (the compliance date retained from AD 2008-06-15), inspect the balloon burner to determine whether it has a hose from the affected batch of hoses following Lindstrand Hot Air Balloons Ltd. Service Bulletin No. 11, Issue 1, dated September 24, 2007.

(2) If as a result of the inspection required by (f)(1) of this AD you find a hose from the affected batch, before further flight, inspect for leaks and conduct a pressure test following Lindstrand Hot Air Balloons Ltd. Service Bulletin No. 11, Issue 1, dated September 24, 2007, and repetitively thereafter inspect and conduct a pressure test at intervals not to exceed 10 hours time-in-service.

(3) If as a result of any inspection or test required by (f)(2) of this AD you find a defective hose, before further flight, replace it and the end fitting with a new hose and new end fitting following FAA-approved instructions. The Lindstrand Balloons Ltd. maintenance manual contains FAA-approved instructions. This action terminates the repetitive requirement in (f)(2) of this AD.

(4) Unless already done, within 12 months after July 23, 2008 (the effective date of this AD), replace any hose from the affected batch with a new hose and end fitting following FAA-approved instructions. The Lindstrand Balloons Ltd. maintenance manual contains FAA-approved instructions. After doing this replacement, no further action is required by this AD.

Note 1: At any time after July 23, 2008 (the effective date of this AD), you may replace the hose and end fitting to terminate the repetitive inspection and testing requirements of this AD.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI United Kingdom Civil Aviation Authority Emergency Airworthiness Directive AD No. G-2008-0001, dated January 9, 2008; and Lindstrand Hot Air Balloons Ltd. Service Bulletin No. 11, Issue 1, dated September 24, 2007, for related information.

Material Incorporated by Reference

(i) You must use Lindstrand Hot Air Balloons Ltd. Service Bulletin No. 11, Issue 1, dated September 24, 2007, to do the actions required by this AD, unless the AD specifies otherwise.

(1) On April 1, 2008 (73 FR 13113, March 12, 2008), the Director of the Federal Register previously approved the incorporation by reference of Lindstrand Hot Air Balloons Ltd. Service Bulletin No. 11, Issue 1, dated September 24, 2007.

(2) For service information identified in this AD, contact Lindstrand Balloons Ltd., Maesbury Road, OSWESTRY, Shropshire SY10 8ZZ, England, Telephone +44 (0) 1691-671717; FAX +4 (0) 1691-671122.

(3) You may review copies at the FAA, Central Region, Office of the Regional Counsel, 901 Locust, Room 506, Kansas City, Missouri 64106; or at the National Archives and Records Administration (NARA). For information on the availability of this material at NARA, call 202-741-6030, or go to: http://www.archives.gov/federal_register/code_of_federal_regulations/ibr_locations.html.

Issued in Kansas City, Missouri, on June 10, 2008.
Kim Smith,
Manager, Small Airplane Directorate, Aircraft Certification Service.

[FR Doc. E8-13674 Filed 6-17-08; 8:45 am]

BILLING CODE 4910-13-P